DEPARTMENT OF HOMELAND SECURITY

[Docket No. DHS-2017-0014]

Notice of Request for Revision to and Extension of a Currently Approved Information Collection for the Chemical Facility Anti-Terrorism Standards

AGENCY: National Protection and Programs Directorate, DHS.

ACTION: 60-Day notice and request for comments; revision of Information Collection Request: 1670-0014.

Authority: 6 U.S.C. 621-629.

SUMMARY: The Department of Homeland Security (DHS or the Department), National Protection and Programs Directorate (NPPD), Office of Infrastructure Protection (IP), Infrastructure Security Compliance Division (ISCD), will submit the following Information Collection Request to the Office of Management and Budget (OMB) for review and clearance in accordance with the Paperwork Reduction Act of 1995 (Pub. L. 104-13, 44 U.S.C. chapter 35). DHS proposes to renew and revise this information collection to update the burden for some of the instruments for this collection and also proposes the addition of a new instrument to this collection.

DATES: Comments are encouraged and will be accepted until June 9, 2017. This process is conducted in accordance with 5 CFR 1320.8.

ADDRESSES: Interested persons are invited to submit comments on the proposed revision to, and extension of, this approved information collection through the Federal eRulemaking Portal at http://www.regulations.gov. All submissions received must include the words “Department of Homeland Security” and the docket number DHS-2017-0014. Except as provided below, comments received will be posted without alteration at http://www.regulations.gov, including any personal information provided.

Comments that include trade secrets, confidential commercial or financial information, Chemical-terrorism Vulnerability Information,¹ Sensitive Security Information (SSI),² or Protected Critical Infrastructure Information (PCII) ³ should not be submitted to the public regulatory docket. Please submit such comments separately from other comments in response to this notice. Comments containing trade secrets, confidential commercial or financial information, CVI, SSI, or PCII should be appropriately marked and packaged in accordance with applicable requirements and submitted by mail to the DHS/NPPD/IP/ISCD Chemical Facility Anti-Terrorism Standards (CFATS) Program Manager at the Department of Homeland Security, 245 Murray Lane SW., Mail Stop 0610, Arlington, VA 20528-0610.

¹ For more information about CVI see 6 CFR 27.400 and the CVI Procedural Manual at http://www.dhs.gov/xlibrary/assets/chemsec_cvi_proceduresmanual.pdf.

² For more information about SSI see 49 CFR part 1520 and the SSI Program Web page at http://www.tsa.gov.

³ For more information about PCII see 6 CFR part 29 and the PCII Program Web page at http://www.dhs.gov/protected-critical-infrastructure-information-pcii-program.

FOR FURTHER INFORMATION CONTACT: Questions and requests for additional information may be directed to the CFATS Program Manager via email at cfats@dhs.gov or telephone at (866) 323-2957.

SUPPLEMENTARY INFORMATION: Section 550 of the Homeland Security Appropriations Act of 2007, Public Law 109-295 (2006), provided the Department with the authority to regulate the security of high-risk chemical facilities. On April 9, 2007, the Department issued an Interim Final Rule (IFR), implementing this statutory mandate at 72 FR 17688. In December of 2014, the President signed into law the Protecting and Securing Chemical Facilities from Terrorist Attacks Act of 2014 (also known as the CFATS Act of 2014), Public Law 113-254, which authorized CFATS program in the Homeland Security Act of 2002, as amended, Public Law 107-296.⁴

⁴ Section 2 of the CFATS Act of 2014 adds a new Title XXI to the Homeland Security Act of 2002. Title XXI contains new sections numbered 2101 through 2109. Citations to the Homeland Security Act of 2002 throughout this document reference those sections of Title XXI. In addition to being found in amended versions of the Homeland Security Act of 2002, those sections of Title XXI can also be found in section 2 of the CFATS Act of 2014, or in 6 U.S.C. 621-629.

The CFATS regulation governs the security at covered chemical facilities that have been determined, by the Department, to be at high risk for terrorist attack. See 6 CFR part 27. CFATS represents a national-level effort to minimize terrorism risk to such facilities. Its design and implementation balance maintaining economic vitality with securing facilities and their surrounding communities. The regulations were designed, in collaboration with the private sector and other stakeholders, to take advantage of protective measures already in place and to allow facilities to employ a wide range of tailored measures to satisfy the regulations' Risk-Based Performance Standards. The Department collects the core regulatory data necessary to implement CFATS through the portions of the Chemical Security Assessment Tool (CSAT) ⁵ covered under a different information collection (1670-0007). In September 2016, after approval by OMB of information collection 1670-0007, the Department deployed a major update to the CSAT system which incorporated new efficiencies by improving workflow and eliminating duplication of information collected. As a result, the Department proposes revisions to the burden of some instruments in this collection (1670-0014) based primarily upon on data from 2014-1206 and, in part, on new efficiencies that were previously unavailable in the CSAT system.

⁵ For more information about CFATS and CSAT, you may access www.dhs.gov/chemicalsecurity. The current information collection for CSAT (IC 1670-0007) will expire on July 31, 2019.

The proposed revisions for this collection are summarized below:

• This request contains a name change for two previously approved instruments to clarify the functional purpose of both instruments. Specifically, “Request for a Technical Consultation” has been changed to “Compliance Assistance” and “Notification of New Top-Screen” has been changed to “Top-Screen Update.” No other revisions to the instruments are proposed.

• The “Request for Redetermination” instrument provides a variety of possible reasons that facilities may select to support the justification for a redetermination request. The Department proposes to amend this instrument to allow facilities to select from a list of possible reasons to support a request for redetermination.

• This request proposes the addition of a new instrument titled “Declaration of Reporting Status” which allows a chemical facility to notify the Department that it is not required to register in CSAT or submit a Top-Screen.

The Department's Methodology in Estimating the Burden for the Request for Redetermination

Number of Respondents

The current information collection estimated that 625 respondents would submit a request for a Request for Redetermination annually. Based on data collected between Calendar Year (CY) 2014-2016, 680 respondents, on average, submitted a Request for Redetermination annually. Because this figure reasonably aligns with the Department's prior estimate of 625 respondents, the Department will retain the current information collection estimate of 625 respondents for this instrument.

Estimated Time per Respondent

In the current information collection, the estimated time per respondent to prepare and submit a Request for Redetermination is 0.25 hours (15 minutes). Based upon the Department's day-to-day informal discussions with respondents, the Department believes that a reasonable burden for gathering and providing supporting documentation continues to be 0.25 hours and will retain this estimate.

Annual Burden Hours

The annual burden hours for a Request for Redetermination is [0.25 hours × 625 respondents × 1 response per respondent], which equals 156.25 hours.

Total Capital/Startup Burden Cost

The Department provides access to CSAT free of charge and assumes that each respondent already has computer hardware and access to the internet for basic business needs. Therefore, there are no annualized capital or start-up costs incurred by chemical facilities of interest or high-risk chemical facilities for this information collection.

Total Recordkeeping Burden

There are no recordkeeping burden costs incurred by chemical facilities of interest or high-risk chemical facilities for this information collection.⁶

⁶ The recordkeeping burden for facilities under CFATS is accounted for by the Department under the CSAT Information Collection No. 1670-0007.

Total Annual Burden Cost

The Department assumes that Site Security Officers (SSOs) are responsible for submitting a Request for Redetermination. For the purpose of this notice, the Department maintains this assumption.

Therefore, to estimate the total annual burden, the Department multiplied the annual burden of 156.25 hours by the average hourly wage rate of SSOs of $67.72 per hour.⁷ Therefore, the total annual burden cost for the Request for Redetermination instrument is $10,581.25 [156.25 total annual burden hours × $67.72 per hour which equals $10,581.25].

⁷ As in the currently approved collection, the Department assumes that SSOs are responsible for submitting the instruments associated with this collection. This notice uses the labor rate for SSOs used by the Department for the recently approved CSAT IC 1670-0007. The Department describes the labor rate in the 60-day PRA notice found at in 80 FR 72086 (Nov. 18, 2015).

The Department's Methodology in Estimating the Burden for the Request for an Extension

Number of Respondents

The current information collection estimated that 185 respondents would submit a request for a Request for an Extension annually. Based on data collected between CY 2014-2016, 730 of respondents, on average, submitted a Request for an Extension annually. In light of the increase in annual requests for redeterminations received, for the last three years, the Department proposes to revise the estimated number of respondents for this instrument to 730 respondents.

Estimated Time per Respondent

In the current information collection, the estimated time per respondent to prepare and submit a Request for an Extension is 0.25 hours (15 minutes). During 2016, the Department updated CSAT and incorporated an automated feature to collect this information electronically. In addition, based on this change and the Department's informal day-to-day interactions with respondents on the new implementation of CSAT, the Department believes that a reasonable burden for gathering and providing supporting documentation is now 0.08 hours (5 minutes) for this instrument.

Annual Burden Hours

The annual burden hours for the Request for an Extension is [0.08 hours × 730 respondents × 1 response per respondent], which equals 58.40 hours.

Total Capital/Startup Burden Cost

The Department provides access to CSAT free of charge and assumes that each respondent already has computer hardware and access to the internet for basic business needs. Therefore, there are no annualized capital or start-up costs incurred by chemical facilities of interest or high-risk chemical facilities for this information collection.

Total Recordkeeping Burden

There are no recordkeeping burden costs incurred by chemical facilities of interest or high-risk chemical facilities for this information collection.⁸

⁸ See footnote 6.

Total Annual Burden Cost

The Department assumes that SSOs are responsible for submitting a Request for an Extension. For the purpose of this notice, the Department maintains this assumption. Therefore, to estimate the total annual burden, the Department multiplied the annual burden of 58.40 hours by the average hourly wage rate of SSOs of $67.72 per hour. Therefore, the total annual burden cost for a Request for an Extension instrument is $3,954.85 [[58.40 hours × $67.72 per hour], which equals $3,954.85].

Top-Screen Update

Number of Respondents

The current information collection estimated that 1,250 respondents would submit a request for a Top-Screen Update annually. Based on data collected between CY 2014-2016, 1,250 of respondents, on average, submitted a Top-Screen Update annually. Because the annual average aligns with the Department's originally estimated threshold, the Department will retain the currently approved estimate of 1,250 respondents for this instrument.

Estimated Time per Respondent

In the current information collection, the estimated time per respondent to prepare and submit a Top-Screen Update is 0.25 hours. During 2016, the Department updated CSAT and incorporated an automated feature to collect this information electronically. In addition, based on this change and the Department's informal day-to-day interactions with respondents on the new implementation of CSAT, the Department believes that a reasonable burden for gathering and providing supporting documentation is now 0.08 hours (5 minutes) for this instrument.

Annual Burden Hours

The annual burden hours for a Top-Screen Update is [0.08 hours × 1,250 respondents × 1.5 responses per respondent], which equals 150 hours.

Total Capital/Startup Burden Cost

The Department provides access to CSAT free of charge and assumes that each respondent already has computer hardware and access to the internet for basic business needs. Therefore, there are no annualized capital or start-up costs incurred by chemical facilities of interest or high-risk chemical facilities for this information collection.

Total Recordkeeping Burden

There are no recordkeeping burden costs incurred by chemical facilities of interest or high-risk chemical facilities for this information collection.⁹

⁹ See footnote 6.

Total Annual Burden Cost

The Department assumes that SSOs are responsible for submitting a Top-Screen Update. For the purpose of this notice, the Department maintains this assumption. Therefore, to estimate the total annual burden, the Department multiplied the annual burden of 150 hours by the average hourly wage rate of SSOs of $67.72 per hour. Therefore, the total annual burden cost for the Top-Screen Update instrument is $10,158.00 [150 total annual burden hours × $67.72 per hour], which equals $10,158.00].

The Department's Methodology in Estimating the Burden for the Compliance Assistance

Number of Respondents

The current information collection estimated that 185 respondents would submit a request for a Compliance Assistance annually. Based on data collected between CY 2014-2016, 455 of respondents, on average, submitted a request for Compliance Assistance annually. In light of the recent increase in annual requests for Compliance Assistance, the Department proposes to revise the estimated number of respondents for this instrument to 455 respondents.

Estimated Time per Respondent

In the current information collection, the estimated time per respondent to prepare and submit a Compliance Assistance is 0.25 hours (approximately 15 minutes). However, based on the Department's informal day-to-day interactions with respondents and past reviews of Compliance Assistance requests, the Department believes that a reasonable burden for gathering and providing supporting documentation is now 0.08 hours (5 minutes) for this instrument.

Annual Burden Hours

The annual burden hours for the Compliance Assistance is [0.08 hours × 455 respondents × 1.5 responses per respondent], which equals 54.60 hours.

Total Capital/Startup Burden Cost

The Department assumes that each respondent already has computer hardware and access to the internet for basic business needs. Therefore, there are no annualized capital or start-up costs incurred by chemical facilities of interest or high-risk chemical facilities for this information collection.

Total Recordkeeping Burden

There are no recordkeeping burden costs incurred by chemical facilities of interest or high-risk chemical facilities for this information collection.¹⁰

¹⁰ See footnote 6.

Total Annual Burden Cost

The Department assumes that SSOs are responsible for submitting a Compliance Assistance. For the purpose of this notice, the Department maintains this assumption. Therefore, to estimate the total annual burden, the Department multiplied the annual burden of 111.38 hours by the average hourly wage rate of SSOs of $67.72 per hour. Therefore, the total annual burden cost for the Compliance Assistance instrument is $3,697.51 [[54.60 total annual burden hours × $67.72 per hour], which equals $3,697.51].

The Department's Methodology in Estimating the Burden for the Declaration of Reporting Status

This is a new instrument that a facility is not required to use. This instrument, if approved, will allow a chemical facility of interest to notify the Department that it is not required to register in CSAT or submit a Top-Screen.

Number of Respondents

The Department estimates that the number of annual respondents to this instrument will be 480 respondents. This estimate is based on the number of potential chemical facilities of interest that were identified from CY 2014-2016 that may have needed to submit additional information. This information would have aided the Department in determining if the chemical facilities of interest had properly reported or needed to be eliminated from having to report under CFATS.

Estimated Time per Respondent

This instrument will request information from chemical facilities about their business operations to allow the Department to identify whether the facility is a chemical facility of interest that may be excluded from coverage by the CFATS Program. Information collected includes whether the facility possesses Chemicals of Interest (COI) that meet or exceed the Screening Threshold Quantity (STQ) described in Appendix A of the CFATS regulation and whether the facility is statutorily excluded from reporting. The Department expects the estimated time per respondent to prepare and submit a Declaration of Reporting Status is 0.25 hours (15 minutes).

Annual Burden Hours

The annual burden hours for the Declaration of Reporting Status is [0.25 hours × 480 respondents × 1 response per respondent], which equals 120 hours.

Total Capital/Startup Burden Cost

The Department assumes that each respondent already has computer hardware and access to the internet for basic business needs. Therefore, there are no annualized capital or start-up costs incurred by chemical facilities of interest or high-risk chemical facilities for this information collection.

Total Recordkeeping Burden

There is no recordkeeping burden for this instrument is de minimus as estimated by the Department for similar instruments under the CSAT Information Collection (IC No. 1670-0007).

Total Annual Burden Cost

The Department maintains the assumption found in the other instruments within this Information Collection that SSOs are responsible for submitting information to the Department. Thus, the Department assumes that an SSO will submit the Declaration of Reporting Status.

Therefore, to estimate the total annual burden, the Department multiplied the annual burden of 120 hours by the average hourly wage rate of SSOs of $67.72 per hour. Therefore, the total annual burden cost for the Declaration of Reporting Status instrument is $8,126.40 [120 total annual burden hours × $67.72 per hour], which equals $8,126.40].

OMB is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology (e.g., permitting electronic submissions of responses).

Analysis

Agency: Department of Homeland Security, National Protection and Programs Directorate, Office of Infrastructure Protection, Infrastructure Security Compliance Division.

Title: Chemical Facility Anti-Terrorism Standards (CFATS).

OMB Number: 1670-0014.

Instrument: Request for Redetermination.

Frequency: “On occasion” and “Other”.

Affected Public: Business or other for-profit.

Number of Respondents: 625 respondents.

Estimated Time per Respondent: 0.25 hours.

Total Burden Hours: 156.25 annual burden hours.

Total Burden Cost (capital/startup): $0.

Total Recordkeeping Burden: $0.

Total Burden Cost: $10,581.25.

Instrument: Request for an Extension.

Frequency: “On occasion” and “Other”.

Affected Public: Business or other for-profit.

Number of Respondents: 730 respondents.

Estimated Time per Respondent: 0.08 hours.

Total Burden Hours: 58.40 annual burden hours.

Total Burden Cost (capital/startup): $0.

Total Recordkeeping Burden: $0.

Total Burden Cost: $3,954.85.

Instrument: Top-Screen Update.

Frequency: “On occasion” and “Other”.

Affected Public: Business or other for-profit.

Number of Respondents: 1,250 respondents.

Estimated Time per Respondent: 0.08 hour.

Total Burden Hours: 150 hours.

Total Burden Cost (capital/startup): $0.

Total Recordkeeping Burden: $0.

Total Burden Cost: $10,158.00.

Instrument: Compliance Assistance.

Frequency: “On occasion” and “Other”.

Affected Public: Business or other for-profit.

Number of Respondents: 455 respondents.

Estimated Time per Respondent: 0.08 hours.

Total Burden Hours: 54.60 annual burden hours.

Total Burden Cost (capital/startup): $0.

Total Recordkeeping Burden: $0.

Total Burden Cost: $3,697.51.

Instrument: Declaration of Reporting Status.

Frequency: “On occasion” and “Other”.

Affected Public: Business or other for-profit.

Number of Respondents: 480 respondents.

Estimated Time per Respondent: 0.25 hours.

Total Burden Hours: 120 annual burden hours.

Total Burden Cost (capital/startup): $0.

Total Recordkeeping Burden: $0.

Total Burden Cost: $8,126.40.

Dated: March 4, 2017.
Ryan Comber,
Acting Chief Information Officer, National Protection and Programs Directorate, Department of Homeland Security.

[FR Doc. 2017-07191 Filed 4-7-17; 8:45 am]

BILLING CODE 9110-09-P